DEPARTMENT OF TRANSPORTATION

Coast Guard

[USCG-2002-12376]

Great Lakes Pilotage Advisory Committee; Vacancies

AGENCY: Coast Guard, DOT.

ACTION: Request for applications.

SUMMARY: The Coast Guard seeks applications for membership on the Great Lakes Pilotage Advisory Committee (GLPAC). GLPAC advises the Coast Guard on matters related to regulations and policies on the pilotage of vessels on the Great Lakes.

DATES: Application forms should reach us on or before July 1, 2002.

ADDRESSES: You may request an application form by writing to Commandant (G-MW), U.S. Coast Guard, 2100 Second Street SW., Washington, DC 20593-0001; by calling 202-267-6164; by faxing 202-267-4700; or by e-mailing Jshort@comdt.uscg.mil. Send your completed application to the above street address. This notice and the application form are available on the Internet at http://dms.dot.gov.

FOR FURTHER INFORMATION CONTACT: Ms. Margie Hegy, Executive Director of GLPAC, at (202) 267-0415, fax (202) 267-4700.

SUPPLEMENTARY INFORMATION: The Great Lakes Pilotage Advisory Committee (GLPAC) is a Federal advisory committee under 5 U.S.C. App. 2. It advises the Secretary of Transportation, via the Commandant of the Coast Guard, on the rules and regulations that govern the registration of pilots, the operating requirements for U.S. registered pilots, pilot training policies, and the policies and regulations that establish rates charges and conditions for pilotage services.

GLPAC meets at least twice a year at various locations in the continental United States. It may also meet for extraordinary purposes. Subcommittees or working groups may be designated to consider specific problems and will meet as required.

We will consider applications for two positions that expired on April 30, 2002. The two positions we are seeking to fill represent the interests of Great Lakes' ports, and the interests of shippers whose cargoes are transported through Great Lakes' ports. To be eligible, you must represent the interests of one of these two industry groups and have particular expertise, knowledge, and experience regarding the regulations and policies on the pilotage of vessels on the Great Lakes, and at least 5 years of practical experience in maritime operations.

Each member serves for a term of 3 years. A few members may serve consecutive terms. All members serve without compensation from the Federal Government, although travel reimbursement and per diem will be provided.

In support of the policy of the Department of Transportation on gender and ethnic diversity, we encourage qualified women and members of minority groups to apply.

Dated: May 23, 2002.
Jeffrey P. High,
Acting, Assistant Commandant for Marine Safety, Security and Environmental Protection.

[FR Doc. 02-13514 Filed 5-29-02; 8:45 am]

BILLING CODE 4910-15-P